DEPARTMENT OF THE INTERIOR

Fish and Wildlife Service

Draft Indiana Bat Recovery Plan, First Revision; Draft Survey Protocol

AGENCY: Fish and Wildlife Service, Interior.

ACTION: Notice of availability for review and comment.

SUMMARY: We, the U.S. Fish and Wildlife Service (Service), announce availability of the draft revised recovery plan and draft survey protocol for the Indiana bat (Myotis sodalis) for public review and comment. This species is federally listed as endangered under the Endangered Species Act of 1973, as amended (Act).

DATES: In order to consider your comments on the draft recovery plan and draft survey protocol, we must receive them on or before July 16, 2007.

ADDRESSES: Recovery Plan: You may obtain a copy of the recovery plan by any of the following means:

1. World Wide Web: http://midwest.fws.gov/endangered; or

2. U.S. mail or in-person pickup: Field Supervisor, U.S. Fish and Wildlife Service, Ecological Services Field Office, 620 South Walker Street, Bloomington, IN 47403-2121.

You may submit electronic comments on the recovery plan to this e-mail address: ibat_recovery_plan@fws.gov.

Draft Survey Protocol: The draft survey protocol is available at http://www.fws.gov/midwest/endangered/mammals/ibat_srvyprtcl.html; this Web page also provides instructions and addresses for submitting comments.

FOR FURTHER INFORMATION CONTACT: Ms. Lori Pruitt, by U.S. mail or e-mail (see ADDRESSES).

SUPPLEMENTARY INFORMATION:

Background

Recovery of endangered or threatened animals or plants is a primary goal of our endangered species program. Recovery plans describe actions considered necessary for the conservation of the species, establish criteria for delisting species, and provide estimates of the time and cost for implementing the measures needed for recovery.

The Act (16 U.S.C. 1531 et seq.) requires the development of recovery plans for listed species, unless such a plan would not promote the conservation of a particular species. Section 4(f) of the Act, as amended in 1988, requires that we provide public notice and opportunity for public review and comment during recovery plan development. The Service will consider all information presented during a public comment period prior to approval of each new or revised recovery plan. The Service and other Federal agencies all also take these comments into consideration in the course of implementing approved recovery plans.

The species was originally listed as in danger of extinction under the Exchanged Species Preservation Act of 1966. The original recovery plan for the species was published in 1983; this is the first recovery plan revision. As of October 2006, the Service had records of extant winter populations at approximately 281 hibernacula in 19 states and 269 maternity colonies in 16 states. The 2005 winter census estimate of the population was 457,000.

During winter, Indiana bats are restricted to suitable underground hibernacula. The vast majority of these sites are caves located in karst areas of the east-central United State; however, Indiana bats also hibernate in other cave-like locations, including abandoned mines. Most Indiana bats hibernate in caves or mines where the ambient temperature remains below 10° C but infrequently drops below freezing, and the temperature is relatively stable. In summer, most reproductive females occupy roost sites under exfoliating bark of dead trees that retain large, thick slabs of peeling bark. These trees are typically within canopy gaps in a forest, in a fenceline, or along a wooded edge. Habitats in which maternity roosts occur include riparian zones, bottomland and floodplain habitats, wooded wetlands, and upland communities. Indiana bats typically forage in semi-open to closed forested habitats, forest edges, and riparian areas.

Threats to the Indiana bat vary during its annual cycle. At the hibernacula, threats include modifications to caves, mines, and surrounding areas that change airflow and alter microclimate in the hibernacula. Human disturbance and vandalism pose significant threats during hibernation through direct mortality and by inducing arousal and consequent depletion of fat reserves. Natural catastrophes can also have a significant effect during winter because of the concentration of individuals in a relatively few sites. During summer months, possible threats relate to the loss and degradation of forested habitat. Migration pathways and swarming sites may also be affected by habitat loss and degradation. In addition to these threats, significant information gaps remain regarding the species' ecology that hinder sound decision-making on how best to manage and protect the species.

The objective of the recovery plan is to provide a framework for the recovery of Indiana bat so that protection by the Act is no longer necessary. We may consider Indiana bat for classification from Endangered to Threatened status when the likelihood of the species becoming extinct in the foreseeable future has been precluded by achievement of the following criteria: (1) Permanent protection of a minimum of 80 percent of Priority-1 hibernacula in each of four Recovery Units (Ozark-Central, Midwest, Appalachian Mountains, and Northeast), with a minimum of one Priority-1 hibernaculum protected in each unit; (2) A minimum overall population estimate equal to the 2005 population estimate of 457,000; and (3) Documentation that shows important hibernacula within each Recovery Unit have a positive annual population growth rate over the next 10-year period (i.e., five survey periods).

We will consider Indiana bat for delisting when the likelihood of the species becoming threatened in the foreseeable future has been reduced by the achievement of the following criteria: (1) Permanent protection of a minimum of 50 percent of Priority-2 hibernacula in each Recovery Unit: (2) A minimum overall population estimate equal to the 2005 population estimate of 457,000; and (3) Documentation that shows a positive population growth rate within each Recovery Unit over an additional five sequential survey periods (i.e., 10 years). If research on summer habitat requirements indicates the quality or quantity of maternity habitat is threatening recovery of the species, the Service will amend these criteria. Additional details on reclassification and delisting criteria are available in the recovery plan.

We will meet these criteria through the following actions: (1) Conserving and managing hibernacula and their winter populations, (2) Conserving and managing summer habitat to maximize survival and fecundity, (3) Planning and conducting research essential for recovery, and (4) Developing and implementing a public information and outreach program.

In addition to seeking comments on the content of the entire recovery plan, we request any information on the appropriate scope and breadth of this recovery plan as it relates to the inclusion of available science for summer habitat. Furthermore, we are seeking any information related to hybridization that may be occurring with other bats within the range of Indiana bat. We are interested to know about this, the extent of such hybridization and its potential to affect the Indiana bat as a species. We also request information about the use of records of captured individuals to describe the summer, winter and maternity distribution of the species. In addition to soliciting comment on the recovery plan, we are seeking comment on a draft survey protocol for determining presence or probable absence of Indiana bats at cave portals or abandoned mines that could serve as hibernacula. Our goal is to incorporate comments and finalize the draft survey protocol in time to be included in the approved Indiana Bat Recovery Plan. The draft survey protocol, with instructions for commenting, is available on the Internet (see ADDRESSES).

Public Comments Solicited

The Service solicits written comments on the recovery plan and the draft survey protocol. All comments received by the date specified will be considered prior to approval of the plan. Written comments and materials regarding the draft recovery plan should be addressed to the Field Supervisor (see ADDRESSES). Comments and materials received about the draft recovery plan will be available by appointment for public inspection during normal business hours at the above address. For information on commenting on the draft survey protocol, see ADDRESSES.

Authority: The authority for this action is section 4(f) of the Endangered Species Act, 16 U.S.C. 1533(f).

Dated: April 4, 2007.
Lynn Lewis,
Deputy Assistant Regional Director, Ecological Services, Region 3, Fort Snelling, Minnesota.

[FR Doc. 07-1866 Filed 4-13-07; 8:45 am]

BILLING CODE 4310-55-M